DEPARTMENT OF THE INTERIOR

Bureau of Land Management

[LLNMP0000 L91410000.PP0000 19XL5573AR]

Notice of Public Meeting, Southern New Mexico Resource Advisory Council, New Mexico

AGENCY: Bureau of Land Management, Interior.

ACTION: Notice of meeting.

SUMMARY: In accordance with the Federal Land Policy and Management Act of 1976 and the Federal Advisory Committee Act of 1972, the U.S. Department of the Interior, Bureau of Land Management's (BLM) Southern New Mexico Resource Advisory Council (RAC) will meet as indicated below.

DATES: The RAC will meet on December 2, 2020, from 9:00 a.m.-3:45 p.m. MST at the location listed in the ADDRESSES section. Due to public health restrictions, members of the RAC and members of the public may also participate in the meeting virtually.

ADDRESSES: The meeting will be held at the Desert Lakes Golf Course, 2351 Hamilton Road, Alamogordo, New Mexico 88310. The meeting will also be held via the Zoom Webinar Platform. To register, visit https://blm.zoomgov.com/webinar/register/WN_IdDVNexRSJWyPzwqRY1YNQ

FOR FURTHER INFORMATION CONTACT: Glen Garnand, Pecos District Office, Bureau of Land Management, 2909 West 2nd Street, Roswell, New Mexico 88201; 575-627-0209. Persons who use a telecommunications device for the deaf (TDD) may call the Federal Relay Service (FRS) at 1-800-877-8229 to contact the above individual during normal business hours. The FRS is available 24 hours a day, 7 days a week, to leave a message or question with the above individual. You will receive a reply during normal business hours.

SUPPLEMENTARY INFORMATION: The 12-member Southern New Mexico RAC provides recommendations to the Secretary of the Interior, through the BLM, on a variety of planning and management issues associated with public land management in the RAC's area of jurisdiction.

Planned agenda items include: Member training; nominations of Chair and Vice Chair; overview of the BLM Las Cruces District, Pecos District, and Socorro Field Office major actions; the proposed fee structure at the Rob Jaggers Campground; and the Federal Lands Recreation Enhancement Act and updates from the U.S. Forest Service for the Gila, Cibola, and Lincoln National Forests. The agenda may be subject to change.

All RAC meetings are open to the public and will be streamed via the Zoom Webinar Platform. To register to participate virtually in the RAC meeting, please visit: https://blm.zoomgov.com/webinar/register/WN_IdDVNexRSJWyPzwqRY1YNQ.

Individuals may submit written comments for consideration by the RAC. Submissions may be filed in advance of the meeting (see FOR FURTHER INFORMATION CONTACT.) Please include “RAC Comment” in your submission.

The BLM welcomes comments from all interested parties. There will be a half-hour public comment period starting at 2:30 p.m. MST for any interested members of the public who wish to address the RAC. Depending on the number of persons wishing to speak and time available, the time for individual comments may be limited.

Public Disclosure of Comments: Before including your address, phone number, email address, or other personal identifying information in your comment, you should be aware that your entire comment—including your personal identifying information—may be made publicly available at any time. While you can ask us in your comment to withhold your personal identifying information from public review, we cannot guarantee that we will be able to do so.

Authority: 43 CFR 1784.4-2.

William Childress,
BLM Las Cruces District Manager.

[FR Doc. 2020-23413 Filed 10-21-20; 8:45 am]

BILLING CODE 4310-FB-P